DEPARTMENT OF LABOR

Employment and Training Administration

[TA-W-59,668]

Richard's Apex, Morgantown, PA; Notice of Termination of Investigation

Pursuant to Section 221 of the Trade Act of 1974, an investigation was initiated on July 6, 2006 in response to a petition filed on behalf of workers at Richard's Apex, Morgantown, Pennsylvania.

The petitioners have requested that the petition be withdrawn. Consequently, the investigation has been terminated.

Signed in Washington, DC, this 12th day of July 2006.
Elliot S. Kushner,
Certifying Officer, Division of Trade Adjustment Assistance.

[FR Doc. E6-13056 Filed 8-9-06; 8:45 am]

BILLING CODE 4510-30-P